DEPARTMENT OF COMMERCE

National Oceanic and Atmospheric Administration

RIN 0648-XG63

Fisheries of the Caribbean, Gulf of Mexico, and South Atlantic; Snapper-Grouper Fishery off the Southern Atlantic States; Amendment 18

AGENCY: National Marine Fisheries Service (NMFS), National Oceanic and Atmospheric Administration (NOAA), Commerce.

ACTION: Notice of intent (NOI) to prepare a draft environmental impact statement (DEIS); notice of scoping meetings; request for comments.

SUMMARY: The South Atlantic Fishery Management Council (Council) intends to prepare a DEIS to assess the impacts on the natural and human environment of the management measures proposed in its revised draft Amendment 18 to the Fishery Management Plan for the Snapper-Grouper Fishery of the South Atlantic Region (FMP).

DATES: Written comments on the scope of issues to be addressed in the DEIS must be received by 5 p.m., eastern time, on May 16, 2008.

ADDRESSES: You may submit comments by any of the following methods:

• E-mail: 0648-XG63@noaa.gov.

• Fax: 727-824-5308, Attn: Kate Michie.

• Mail: Kate Michie, Southeast Regional Office, NMFS, 263 13th Avenue South, St. Petersburg, FL 33701.Scoping documents are available at the Council's Web site at www.safmc.net.

FOR FURTHER INFORMATION CONTACT: Kim Iverson, Public Information Officer, South Atlantic Fisheries Management Council, 4055 Faber Place Drive, Suite 201, North Charleston, SC 29405; phone: 843-571-4366, toll free 1-866-SAFMC-10; fax: 843-769-4520; e-mail: Kim.Iverson@safmc.net.

SUPPLEMENTARY INFORMATION: The snapper-grouper fishery off the South Atlantic states in the exclusive economic zone is managed under the FMP. Following Council preparation, the FMP was approved and implemented by NMFS under that authority of the Magnuson-Stevens Fishery Conservation and Management Act (Magnuson-Stevens Act) in March of 1983.

An NOI for Amendment 18 was published January 22, 2008 (73 FR 3701); however, the plan amendment contained in that notice considered the implementation of a limited access privilege (LAP) program for the commercial snapper-grouper fishery in the South Atlantic. The Council has postponed consideration of a LAP program to a future amendment, and different actions are now being considered in Amendment 18. This NOI seeks public comment on the new Amendment 18 and associated DEIS.

The reauthorized Magnuson-Stevens Act of 2006 requires regional fishery management councils to establish annual catch limits (ACLs) for each stock/stock complex and accountability measures to ensure these ACLs are not exceeded. Among other things, Amendment 18 addresses these requirements for South Atlantic red snapper.

A stock assessment has been completed for red snapper through the Southeast Data, Assessment, and Review (SEDAR) process, which indicates the stock is undergoing overfishing and is overfished. The stock assessment will be reviewed by the Council's Scientific and Statistical Committee (SSC) at its June 8 10, 2008, meeting. If the SSC agrees with the SEDAR determination, the Council will continue development of Amendment 18.

To prevent overfishing, the Council intends to set biological parameters in Amendment 18 for red snapper, consistent with the national standards of the Magnuson-Stevens Act. These parameters include maximum sustainable yield, optimum yield (OY), minimum stock size threshold, and maximum fishing mortality rate threshold, which are used to help rebuild overfished stocks.

The Council is required by the Magnuson-Stevens Act to implement rebuilding plans for overfished species. Amendment 18, and the associated DEIS, would also specify a rebuilding plan for the red snapper stock and consider various management measures to end overfishing. Some of the possible management measures the Council could consider include: quotas, seasonal closures (for both commercial and recreational fisheries), area closures, size limit modifications, and bag limit adjustments. These measures would help to increase the biomass of overfished red snapper and at the same time help to achieve OY for the fishery.

The Council will review public comments and the SSC's determinations at its June 9 13, 2008, meeting and decide whether or not to continue preparation of the DEIS. If the Council does prepare a DEIS, a comment period is planned, which will include public hearings to receive comments. A Federal Register notice will announce the availability of the DEIS associated with this amendment, as well as a 45-day public comment period, pursuant to regulations issued by the Council on Environmental Quality for implementing the National Environmental Policy Act and to NOAA's Administrative Order 216-6. The Council will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

Scoping Meetings, Times, and Locations

All scoping meetings will begin at 3 p.m. The meetings will be physically accessible to people with disabilities. Requests for information packets or for sign language interpretation or other auxiliary aids should be directed to the Council (see FOR FURTHER INFORMATION CONTACT).

Wednesday, May 7, 2008—Key Largo Grande, 97000 South Overseas Highway, Key Largo, FL 33037; phone: 866-597-5397.

Friday, May 9, 2008—Radisson Resort at the Port, 8701 Astronaut Boulevard, Cape Canaveral, FL 32920; phone: 321-784-0000.

Monday, May 12, 2008—Mighty Eighth Air Force Museum, 175 Bourne Avenue, Pooler, GA 31322; phone: 912-748-8888.

Tuesday, May 13, 2008—Town and Country Inn, 2008 Savannah Highway, Charleston, SC 29407; phone: 843-571-1000.

Thursday, May 16, 2008—Sheraton New Bern, 100 Middle Street, New Bern, NC 18560; phone: 252-638-3585.

Authority: 16 U.S.C. 1801 et seq.

Dated: March 31, 2008.
Emily H. Menashes,
Acting Director, Office of Sustainable Fisheries, National Marine Fisheries Service.

[FR Doc. E8-7213 Filed 4-4-08; 8:45 am]

BILLING CODE 3510-22-S